FEDERAL EMERGENCY MANAGEMENT AGENCY

[FEMA-1412-DR]

Missouri; Amendment No. 4 to Notice of a Major Disaster Declaration

AGENCY: Federal Emergency Management Agency (FEMA).

ACTION: Notice.

SUMMARY: This notice amends the notice of a major disaster declaration for the State of Missouri, [FEMA-1412-DR], dated May 6, 2002, and related determinations.

EFFECTIVE DATE: May 24, 2002.

FOR FURTHER INFORMATION CONTACT: Richard A. Robuck, Readiness, Response and Recovery and Directorate, Federal Emergency Management Agency, Washington, DC 20472, (202) 646-2705 or Rich.Robuck@fema.gov.

SUPPLEMENTARY INFORMATION: The notice of a major disaster declaration for the State of Missouri is hereby amended to include the following areas among those areas determined to have been adversely affected by the catastrophe declared a major disaster by the President in his declaration of May 6, 2002:

Carroll, Chariton, Christian, Clark, Cooper, Grundy, Howard, Lewis, Linn, Mercer, Polk, Scotland, Schuyler, and Sullivan Counties for Public Assistance.

Dent, Iron, Ripley, Texas and Wayne Counties for Public Assistance (already designated for Individual Assistance).

Camden, Cedar, Christian, Greene, Hickory, Jasper, Laclede, McDonald, Mississippi, New Madrid, Newton, Pemiscot, Polk, Scott, Stone, Vernon and Wright Counties for Individual Assistance.

Barry, Barton, Dade, Dallas, Lawrence, Taney, and Webster Counties for Individual Assistance (already designated for Public Assistance).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Joe M. Allbaugh,
Director.

[FR Doc. 02-14263 Filed 6-6-02; 8:45 am]

BILLING CODE 6718-02-P